DEPARTMENT OF COMMERCE

National Oceanic and Atmospheric Administration

50 CFR Part 679

[Docket No. 981224323-9226-02; I.D. 120198B]

RIN 0648-AL23

Fisheries of the Exclusive Economic Zone Off Alaska; Recordkeeping and Reporting; Correction

AGENCY: National Marine Fisheries Service (NMFS), National Oceanic and Atmospheric Administration (NOAA), Commerce.

ACTION: Final rule; correction.

SUMMARY: This document contains a correction to the final rule for recordkeeping and reporting that was published in the Federal Register on November 15, 1999.

DATES: Effective December 15, 1999

FOR FURTHER INFORMATION CONTACT: Patsy A. Bearden, 907-586-7008.

SUPPLEMENTARY INFORMATION: A final rule was published in the Federal Register on November 15, 1999 (64 FR 61964), to revise recordkeeping and reporting regulations. The new product code, 42, that was added to Table 1 to 50 CFR part 679 was inadvertently omitted from Table 3 to 50 CFR part 679.

Correction

In the final rule Revisions to Recordkeeping and Reporting Requirements published in 64 FR 61964, November 15, 1999, FR Doc. 99-28294, on page 62011, under TABLE 3, PRODUCT RECOVERY RATES FOR GROUNDFISH SPECIES AND CONVERSION RATES FOR PACIFIC HALIBUT, in the fourth column, remove the column heading “3 Bled” and add in its place “3, 42 Bled”.

Dated: February 23, 2000 .
Andrew A. Rosenberg,
Deputy Asst. Administrator for Fisheries, National Marine Fisheries Service.

[FR Doc. 00-4775 Filed 2-29-00; 8:45 am]

BILLING CODE 3510-22-F